DEPARTMENT OF STATE

[Public Notice 8637]

Shipping Coordinating Committee; Notice of Committee Meeting

The Shipping Coordinating Committee (SHC) will conduct two (2) open meetings on Thursday, March 13, 2014; and Wednesday, June 11, 2014, at the headquarters of the Radio Technical Commission for Maritime Services (RTCM) in Suite 605, 1611 New Kent Street, Arlington, Virginia 22209. Each meeting will start at 9:30 a.m. The primary purpose of the meetings is to prepare for the first Session of the International Maritime Organization's (IMO) Sub-Committee on Navigation, Communication, and Search and Rescue to be held at the IMO Headquarters, United Kingdom, from June 30, 2014 to July 4, 2014.

The primary matters to be considered include:

—Routing of ships, ship reporting and related matters

—Consideration of ECDIS matters related to the implementation of the carriage requirements in SOLAS regulations V/19.2.10 and V/19.2.11

—Consolidation of ECDIS-related IMO circulars

—Consideration of the application of the satellite navigation system “BeiDou” in the maritime field

—Development of explanatory footnotes to SOLAS regulations V/15, V/18, V/19 and V/27

—Consideration of LRIT-related matters

—Development of an e-navigation strategy implementation plan

—Development of performance standards for multi-system shipborne navigation receivers

—Revision of the Guidelines for the onboard operational use of shipborne automatic identification systems (AIS)

—Developments in maritime radiocommunication systems and technology

—Review and modernization of the Global Maritime Distress and Safety System (GMDSS)

—Further development of the GMDSS master plan on shore-based facilities

—Consideration of operational and technical coordination provisions of maritime safety information (MSI) services, including the development and review of related documents

—International Telecommunication Union (ITU) matters, including Radiocommunication ITU-R Study Group matters

—ITU matters, including ITU World Radiocommunication Conference matters

—Consideration of developments in Inmarsat and Cospas-Sarsat

—Development of guidelines on harmonized aeronautical and maritime search and rescue procedures, including SAR training matters

—Further development of the Global SAR Plan for the provision of maritime SAR services, including procedures for routeing distress information in the GMDSS

—Development of amendments to the IAMSAR Manual

—Development of measures to protect the safety of persons rescued at sea

—Development of a mandatory Code for ships operating in polar waters

—Consideration of International Association of Classification Societies (IACS) unified interpretations

—Biennial agenda and provisional agenda for NCSR 2

—Report to the Maritime Safety Committee

Members of the public may attend this meeting up to the seating capacity of the room. To facilitate the building security process and to request reasonable accommodation, those who plan to attend should contact the meeting coordinator, Mr. George Detweiler, not later than 7 days prior to the meeting. Mr. Detweiler may be contacted by email at George.H.Detweiler@uscg.mil, or by phone at (202) 372-1566. Requests made after that date might not be able to be accommodated. Additional information regarding these and other IMO SHC public meetings may be found at: www.uscg.mil/imo.

Dated: February 10, 2014.
Marc Zlomek,
Executive Secretary, Shipping Coordinating Committee, Department of State.

[FR Doc. 2014-03518 Filed 2-18-14; 8:45 am]

BILLING CODE 4710-09-P